ENVIRONMENTAL PROTECTION AGENCY

[FRL-9921-58-ORD]

Notice of Workshop on Ultrafine Particulate Matter Metrics and Research

AGENCY: Environmental Protection Agency.

ACTION: Notice of Workshop.

SUMMARY: The U.S. Environmental Protection Agency's (EPA) Office of Research and Development's Air, Climate, and Energy (ACE) program is organizing a workshop on Ultrafine Particulate Matter (UFP) metrics and research. This workshop is intended to provide an overview of the state-of-the-science on UFP emissions, air quality impacts, exposures, and health effects, as well as promote discussions on relevant UFP metrics to promote consistency and collaboration in current and future research. The workshop will be held on February 11-13, 2015 in Research Triangle Park, North Carolina. The workshop will be open to attendance by interested public observers on a first-come, first-served basis up to the limits of available space.

DATES: The workshop will be held on February 11-13, 2015.

ADDRESSES: The workshop will be held at U.S. EPA, 109 T.W. Alexander Drive, Research Triangle Park, North Carolina. To register, please visit the Web site: https://www.eventbrite.com/e/us-epa-workshop-on-ultrafine-particles-tickets-13583846651. In addition to participating in person, there will be access to the plenary sessions via webinar. The pre-registration deadline is January 27, 2015.

FOR FURTHER INFORMATION CONTACT: For details on workshop registration or logistics, please contact Rich Baldauf at (919) 541-4386, or baldauf.richard@epa.gov.

SUPPLEMENTARY INFORMATION: The EPA is organizing a workshop to bring together internal and external experts from multiple disciplines including, but not limited to, atmospheric science, monitoring, air quality analysis, and health assessment, to discuss new and emerging research related to ultrafine particles. The workshop will consist of platform presentations and panel discussions on UFP-relevant science related to emissions, ambient air quality, exposures, and health effects. State-of-the-science presentations will be provided on combustion emissions and control issues, health effects evidence, and previous policy considerations in the United States and Europe. Presentations and discussions will occur on metrics and indicators relevant to air quality and health impacts, and instruments and methods that can be used to measure and evaluate these metrics. The workshop will also provide researchers with the opportunity to describe on-going and planned UFP research to promote collaboration and communication within the scientific community.

Members of the public may attend the workshop as observers. Space is limited, and reservations will be accepted on a first-come, first-served basis.

Dated: January 7, 2015.
Daniel L. Costa,
Director, Air, Climate and Energy Research Program.

[FR Doc. 2015-00637 Filed 1-15-15; 8:45 am]

BILLING CODE 6560-50-P